DEPARTMENT OF COMMERCE

International Trade Administration

United States Investment Advisory Council

AGENCY: International Trade Administration, U.S. Department of Commerce.

ACTION: Notice of establishment of the United States Investment Advisory Council.

SUMMARY: The Department of Commerce, having determined that it is in the public interest in connection with the performance of duties imposed on the Department by law, and with the concurrence of the General Services Administration, announces establishment of The United States Investment Advisory Council. This advisory committee will provide advice on strategies to attract foreign direct investment to the United States. The establishment of this federal advisory committee is necessary to provide input to the Secretary of Commerce on the development and implementation of strategies and programs to attract and retain foreign investment in the United States and to help support the United States remaining the world's preeminent destination for foreign direct investment.

FOR FURTHER INFORMATION CONTACT: Office of Advisory Committees and Industry Outreach, United States Investment Advisory Committee Executive Secretariat, Room 4043, 1401 Constitution Avenue NW., Washington, DC 20230, telephone 202-482-4501, email: IAC@trade.gov.

SUPPLEMENTARY INFORMATION: The United States Investment Advisory Council (Advisory Council) is established in accordance with the provisions of the Federal Advisory Committee Act, as amended, 5 U.S.C. App., to advise the Secretary of Commerce (Secretary) on matters relating to the promotion and retention of foreign direct investment in the United States (FDI). The Department of Commerce affirms that the creation of this Advisory Council is necessary and in the public interest.

Dated: March 15, 2016.
Li Zhou,
Deputy Director, Office of Advisory Committees & Industry Outreach.

[FR Doc. 2016-06231 Filed 3-16-16; 11:15 am]

BILLING CODE 3510-DR-P